FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 24, 2020.

A. Federal Reserve Bank of Minneapolis (Mark A. Rauzi, Vice President) 90 Hennepin Avenue, Minneapolis, Minnesota 55480-0291:

1. John D. Marchell, Grand Forks, North Dakota; individually, to retain voting shares of Full Service Insurance Agency, Inc., Buxton, North Dakota, and thereby indirectly retain voting shares of First State Bank, Buxton, North Dakota.

In addition, John D. Marchell, Pernell S. Marchell, Warwick, North Dakota, and Lisa B. Marchell, West Richland, Washington (collectively, the Marchell Family Group), as members of a group acting in concert; Janice M. Kloster, Fargo, North Dakota, Laurie Kloster Gray, Greenbrae, California, Nancy K. Tibbs, Loveland, Ohio, Katie Kloster, Edina, Minnesota, Polly Kloster, Fargo, North Dakota, and Dan Kloster, Fairway, Kansas (collectively, the Kloster Family Group), as members of a group acting in concert; and Marilyn J. Aarsvold, Blanchard, North Dakota, Nicole Haugen Prom, Bloomington, Minnesota, Peter Haugen, Portland, North Dakota, Jon Aarsvold, Fargo, North Dakota, Bruce Aarsvold, Peachtree, Georgia, and Julie Haugen, Fargo, North Dakota (collectively, the Haugen Family Group), as members of a group acting in concert, to retain voting shares of Full Service Insurance Agency, Inc., and thereby indirectly retain voting shares of First State Bank.

Board of Governors of the Federal Reserve System, February 3, 2020.
Yao-Chin Chao,
Assistant Secretary of the Board.

[FR Doc. 2020-02397 Filed 2-6-20; 8:45 am]

BILLING CODE P